DEPARTMENT OF AGRICULTURE

Forest Service

Squirrel Meadows-Grand Targhee Land Exchange; Caribou-Targhee National Forest, Teton County, WY

AGENCY: Forest Service, USDA.

ACTION: Notice of intent to prepare a Supplemental Environmental Impact Statement.

SUMMARY: The U.S. Department of Agriculture, Forest Service will prepare a Supplemental Environmental Impact Statement (SEIS) to comply with Idaho District Court Judge Winmill's Judgment and Memorandum Decision dated August 8, 2001 in Civil Case Number 01-0176-E-BLW. These documents are available at the District Court of Idaho's Remote Access to Court Electronic Records (RACER) Web page http://www.id.uscourts.gov/ or upon request from the Forest Service.

The Forest Service proposes to acquire 400 acres of private land at Squirrel Meadows that is considered to be important habitat for the threatened grizzly bear and other wildlife for 120 acres of National Forest System lands at the base of the Grand Targhee Ski and Summer Resort. The proposed action remains essentially the same as in the Final Environmental Impact Statement for the Squirrel Meadows-Grand Targhee Land Exchange, dated December of 2000. In the FEIS the proposal was to exchange up to 158 acres of NFS lands at Grand Targhee; however, in the Record of Decision, the acreage was reduced to 120 acres to balance the appraised values.

DATES: Written comments concerning the analysis required by the Judgment and Memorandum Decision should be received within 15 days of the date of publication of this notice in the Federal Register. The Forest Service estimates the Draft SEIS will be filed in February of 2002. The Final SEIS will be filed within 3 months of that date, approximately May of 2002.

ADDRESSES: Send written comments to Caribou-Targhee National Forest Headquarters, Attn: Lisa Klinger, 1405 Hollipark Drive, Idaho Falls, Idaho 83401. The responsible official for this decision is Jerry Reese, Caribou-Targhee National Forest Supervisor.

FOR FURTHER INFORMATION CONTACT: Copies of the December 2000 Final EIS and Record of Decision (ROD) for the Squirrel Meadows-Grand Targhee land Exchange can be obtained by contacting the Caribou-Targhee National Forest Headquarters Office at (208) 557-5760 or the Teton Basin Ranger District at (208) 354-2312. Questions concerning the proposed action and SEIS should be directed to Lisa Klinger, Recreation Specialist, at (208) 557-5760 or Cheryl Probert, Forest Planner, at (209) 557-5821.

SUPPLEMENTARY INFORMATION: Comments received in response to this solicitation, including names and addresses of those who comment, will be considered part of the public record on this proposed action and will be available for public inspection. Comments submitted anonymously will be accepted and considered: however, those who submit anonymous comments will not have standing to appeal the subsequent decision under 36 CFR parts 215 or 217. Additionally, pursuant to 7 CFR 1.27 (d), any person may request the agency to withhold a submission from the public record by showing how the Freedom of Information Act (FOIA) permits such confidentiality. Persons requesting such confidentiality should be aware that under the FOIA, confidentiality may be granted in only very limited circumstances such as to protect trade secrets. The Forest Service will inform the requester of the agency's decision regarding the request for confidentiality, and where the request is denied, the agency will return the submission and notify the requester that the comments may be resubmitted with or without name and address within 10 days.

The comment period on the draft environmental impact statement will be 45 days from the date the Environmental Protection Agency's notice of availability appears in the Federal Register. It is very important that those interested in this proposed action participate at this time. To be most helpful, comments on the draft environmental impact statement should be a specific as possible and may address the adequacy of the statement or the merits of the alternatives discussed. (see the Council on Environmental Quality Regulations for implementing the procedural provisions of the National Environmental Policy Act at 40 CFR 1503.3).

In addition, Federal court decisions have established that reviews of draft environmental impact statements must structure their participation in the environmental review of the proposal so that it is meaning and alerts an agency to the reviewers' position and contentions. Vermont Yankee Nuclear Power Corp. v. NRDC, 435 U.S. 519, 553 (1978). Environmental objections that could have been raised at the draft stage may be waived if not raised until after completing of the final environmental impact statement. City of Angoon v. Hodel, (9th Circuit, 1986) and Wisconsin Heritages, Inc. v. Harris, 490 F. Supp. 1334, 1338 (E.D. Wis. 1980). The reason for this is to ensure that substantive comments and objections area made available to the Forest Service at time when it can meaningfully consider them and respond to them in the final.

Dated: November 26, 2001.
Jerry B. Reese,
Caribou-Targhee Forest Supervisor.

[FR Doc. 01-29837 Filed 11-30-01; 8:45 am]

BILLING CODE 3410-11-M